ENVIRONMENTAL PROTECTION AGENCY

40 CFR Part 52

[EPA-R09-OAR-2025-0070; FRL-12637-02-R9]

Determination of Attainment by the Attainment Date; 2008 8-Hour Ozone Standards; California; Sacramento Metro Area

AGENCY: Environmental Protection Agency (EPA).

ACTION: Proposed determination.

SUMMARY: The Environmental Protection Agency (EPA) is proposing to determine that the Sacramento Metro, California area attained the 2008 8-hour ozone national ambient air quality standards (NAAQS) by its December 31, 2024 attainment date. This proposed determination is based on quality-assured and certified ambient air quality monitoring data from 2022 through 2024. If we finalize this determination as proposed, the requirement for the State to have contingency measures for reasonable further progress (RFP) and attainment for the 2008 ozone NAAQS will no longer apply for this area. We are taking comments on this proposal and plan to follow with a final action. Elsewhere in this Federal Register, we are making an interim final determination that will stay and defer the imposition of Clean Air Act (CAA or “Act”) sanctions associated with a disapproval action related to the contingency measures requirement for this area.

DATES: Comments must be received on or before April 21, 2025.

ADDRESSES: Submit your comments, identified by Docket ID No. EPA-R09-OAR-2025-0070 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Laura Lawrence, EPA Region IX, 75 Hawthorne St., San Francisco, CA 94105; phone: (415) 972-3407; email: lawrence.laura@epa.gov.

SUPPLEMENTARY INFORMATION: Throughout this document, “we,” “us,” and “our” refer to the EPA.

Table of Contents

I. Background

A. Regulatory Context

B. The Sacramento Metro Area

II. EPA Analysis

A. Applicable Statutory and Regulatory Provisions

B. Determination of Attainment or Failure To Attain

C. Monitoring Network Considerations

D. Data Considerations

E. Effects of This Proposed Determination

III. Action Summary

IV. Statutory and Executive Order Reviews

I. Background

A. Regulatory Context

The CAA requires the EPA to establish primary and secondary NAAQS for certain pervasive pollutants that “may reasonably be anticipated to endanger public health and welfare.” ¹ The primary NAAQS is designed to protect public health with an adequate margin of safety, and the secondary NAAQS is designed to protect public welfare and the environment. The EPA has set standards for six common air pollutants, referred to as criteria pollutants, including ozone. These standards represent the air quality levels an area must meet to comply with the CAA.

¹ CAA section 108(a).

Ground-level ozone pollution is formed from the reaction of volatile organic compounds (VOC) and oxides of nitrogen (NOX) in the presence of sunlight.² These two pollutants, referred to as ozone precursors, are emitted by many types of sources, including on- and off-road motor vehicles and engines, power plants and industrial facilities, and smaller area sources such as lawn and garden equipment and paints.

² The State of California refers to reactive organic gases (ROG) rather than VOC in some of its ozone related SIP submissions. As a practical matter, ROG and VOC refer to the same set of chemical constituents, and for the sake of simplicity, we refer to this set of gases as VOC in this determination notice.

Scientific evidence indicates that adverse public health effects occur following exposure to ozone, particularly in children and adults with lung disease. Breathing air containing ozone can reduce lung function and inflame airways, which can increase respiratory symptoms and aggravate asthma or other lung diseases.³

³ EPA, Health Effects of Ozone Pollution, available at https://www.epa.gov/ground-levelozone-pollution/health-effects-ozone-pollution.

In March 2008, the EPA strengthened the ozone NAAQS, establishing primary and secondary 8-hour ozone standards at a level of 0.075 parts per million (ppm) (“2008 ozone NAAQS”).⁴ The numerical level of the NAAQS had previously been set at 0.08 ppm.⁵ Section 107(d) of the CAA requires the EPA to designate an area “nonattainment” if it is violating the standards or if it has sources contributing to a violation of the standards in a nearby area. For ozone standards, the EPA classifies nonattainment areas as “Marginal,” “Moderate,” “Serious,” “Severe,” or “Extreme,” depending upon ambient air monitoring values at the time of designation.⁶ An ozone nonattainment area with a higher classification is subject to more stringent CAA planning and control requirements than lower classification areas, but the state is provided more time to attain the NAAQS.⁷

⁴ 73 FR 16436 (March 27, 2008).

⁵ In October 2015, the EPA further strengthened the primary and secondary eight-hour ozone NAAQS from 0.075 ppm to 0.070 ppm. 80 FR 65291 (October 26, 2015). This action relates only to the 2008 ozone NAAQS.

⁶ See CAA section 181(a)(1).

⁷ See, generally, subpart 2 of part D of title I of the CAA.

An area is considered to have attained the 2008 ozone standard if there are no violations of the standard, as determined in accordance with 40 CFR 50.15, based on three consecutive years of complete, quality-assured, and certified monitoring data. A violation of the NAAQS occurs when the ambient ozone air quality monitoring data show that the 3-year average of the annual fourth-highest daily maximum 8-hour average ozone concentrations at an ozone monitor is greater than 0.075 ppm.⁸

⁸ 40 CFR 50.15 and 40 CFR part 50, Appendix P.

B. The Sacramento Metro Area

The EPA designated the Sacramento Metro area as nonattainment for the 2008 ozone NAAQS on May 21, 2012, and classified the area as “Severe-15.” ⁹ The area's applicable attainment date for the 2008 ozone NAAQS is December 31, 2024.¹⁰

⁹ 77 FR 30088 (May 21, 2012).

¹⁰ See 85 FR 68509, 68510 (October 29, 2020).

The Sacramento Metro area consists of Sacramento and Yolo counties and portions of El Dorado, Placer, Solano and Sutter counties, and is under the jurisdiction of the California Air Resources Board (CARB) and the following regional air pollution control districts: the El Dorado County Air Quality Management District (EDCAQMD), the Feather River Air Quality Management District (FRAQMD), the Placer County Air Pollution Control District (PCAPCD), the Sacramento Metropolitan Air Quality Management District (SMAQMD), and the Yolo-Solano Air Quality Management District (YSAQMD) (collectively, “Districts”).¹¹ The nonattainment area also includes Tribal lands under the jurisdiction of the Shingle Springs Band of Miwok Indians, Shingle Springs Rancheria (Verona Track), California; the United Auburn Indian Community of the Auburn Rancheria of California, and the Yocha Dehe Wintun Nation, California.

¹¹ For a precise description of the geographic boundaries of the Sacramento Metro Area for the 2008 ozone NAAQS, refer to 40 CFR 81.305. Specifically included portions are the eastern portion of Solano County, the western portions of Placer and El Dorado counties outside of the Lake Tahoe Basin, and the southern portion of Sutter County.

CARB is the state agency responsible for the adoption and submission to the EPA of California State Implementation Plan (SIP) submissions. Under California law, air districts in California are generally responsible for the development of regional air quality plans. For the Sacramento Metro area, the Districts develop and adopt air quality management plans to address CAA planning requirements applicable to the region. The Districts then submit such plans to CARB for adoption and submission to the EPA as proposed revisions to the California SIP. In general, Tribes are not required to submit Tribal Implementation Plan (TIP) submissions.¹²

¹² See 40 CFR 49.4(a) (specifying that Tribes are not subject to implementation plan submittal deadlines).

The EPA approved the State's attainment and reasonable further progress (RFP) demonstrations and other required planning elements for the 2008 ozone NAAQS for the Sacramento Metro area on October 22, 2021.¹³ However, we deferred action on the requirement for contingency measures that would be implemented in the event the area fails to attain (“attainment contingency measures”) or fails to meet RFP milestones (“RFP contingency measures”). We subsequently disapproved the area's contingency measures submittal on June 15, 2023.¹⁴ This disapproval started sanctions clocks pursuant to section 179 of the CAA and 40 CFR 52.31, by which the offset sanction in CAA section 179(b)(2) would be imposed after 18 months of the effective date of the disapproval and the highway funding sanction in CAA section 179(b)(1) would be imposed six months after the offset sanction was imposed, as well as the two-year clock for the EPA to promulgate a Federal Implementation Plan (FIP) under CAA section 110(c). California submitted contingency measures for the 2008 ozone NAAQS in the Sacramento Metro area on December 23, 2024.¹⁵ The EPA has not yet taken action on this submittal; the offset sanction has been in effect for the area since January 17, 2025, and the highway funding sanction is set to come into effect on July 17, 2025. We are concurrently making an interim final determination to stay the offset sanction and to defer the highway funding sanction associated with our 2023 disapproval of the contingency measures submittal. As described in Section II.E of this document, a final determination of attainment by the attainment date would permanently stop the sanctions and FIP clocks associated with this previous disapproval action, and would permanently lift the offset sanction that has been in place.

¹³ 86 FR 58581.

¹⁴ 88 FR 39179.

¹⁵ CARB adopted the contingency measures as a SIP revision on December 20, 2024, through CARB Executive Order S-24-016, and submitted the SIP revision to the EPA electronically on December 23, 2024, as an attachment to a letter dated December 20, 2024, from Steven S. Cliff, Ph.D., Executive Officer, CARB to Martha Guzman, Regional Administrator, EPA Region IX. The State's submittal addresses contingency measures requirements for the 2008 and 2015 ozone NAAQS.

II. EPA Analysis

A. Applicable Statutory and Regulatory Provisions

The EPA is required under CAA 181(b)(2) to determine whether an ozone nonattainment area has attained the ozone standards by the area's attainment date. A determination of whether an area's air quality meets the 2008 ozone NAAQS is generally based on three years of complete, quality-assured, and certified air quality monitoring data gathered at established State and Local Air Monitoring Stations (“SLAMS”) in the area and entered into the EPA's Air Quality System (AQS) database.¹⁶ Data from ambient air monitors operated by state/local agencies in compliance with EPA monitoring requirements must be submitted to the AQS database. Monitoring agencies annually certify that these data are accurate to the best of their knowledge. Accordingly, the EPA relies primarily on data in its AQS database when determining the attainment status of an area.¹⁷ All data are reviewed to determine the area's air quality status in accordance with 40 CFR part 50, Appendix P.

¹⁶ Generally, a “complete” data set for determining attainment of ozone NAAQS is one that includes three years of data. There are less stringent data requirements for showing that a monitor has failed an attainment test and thus has recorded a violation of the standard.

¹⁷ 40 CFR 50.15; 40 CFR part 50, Appendix P; 40 CFR part 53; 40 CFR part 58, Appendices A, C, D, and E.

Under EPA regulations at 40 CFR 50.15, an area attains the 2008 ozone NAAQS when the 3-year average of the annual fourth-highest daily maximum 8-hour average ozone monitor concentrations is less than or equal to 0.075 ppm. This 3-year average is referred to as the “design value.” When the design value is greater than 0.075 ppm at any monitor within the area, then the area is violating the NAAQS.¹⁸ The data completeness requirement is met when the average percent of days with valid ambient monitoring data is greater than or equal to 90 percent and no single year has less than 75 percent data completeness, as determined under Appendix P of 40 CFR part 50.¹⁹

¹⁸ The data handling convention in 40 CFR part 50, Appendix P dictates that concentrations shall be reported in ppm to the third decimal place, with additional digits to the right being truncated. Thus, a computed 3-year average ozone concentration of 0.076 ppm is greater than 0.075 ppm and would exceed the standard, but a design value of 0.0759 is truncated to 0.075 and attains the 2008 ozone NAAQS.

¹⁹ 40 CFR part 50, Appendix P, section 2.3(b).

B. Determination of Attainment or Failure To Attain

The EPA is proposing to determine that the Sacramento Metro area attained the 2008 ozone NAAQS by its applicable attainment date; that is, that the average of the annual fourth-highest daily maximum 8-hour average ozone concentrations was at or below 0.075 ppm in the three years leading up to the applicable attainment date. This proposed determination is based on three years of quality-assured and certified ambient air quality monitoring data in AQS for the 2022-2024 monitoring period.

The EPA's proposed determination of attainment is based upon data that have been collected and quality assured in accordance with 40 CFR part 58 and recorded in the EPA's AQS database.²⁰ As discussed in Section II.D of this document, ambient air quality monitoring data for the 3-year period preceding the attainment date (i.e., 2022-2024 for the 2008 ozone NAAQS for the Sacramento Metro area, based on the applicable attainment date of December 31, 2024) meet the data completeness requirements in 40 CFR part 50, Appendix P.

²⁰ The EPA maintains the AQS, a database that contains ambient air pollution data collected by the EPA, state, local, and tribal air pollution control agencies. The AQS also contains meteorological data, descriptive information about each monitoring station (including its geographic location and its operator) and data quality assurance/quality control information. The AQS data is used to (1) assess air quality, (2) assist in attainment/non-attainment designations, (3) evaluate SIPs for nonattainment areas, (4) perform modeling for permit review analysis, and (5) prepare reports for Congress as mandated by the CAA. Access is through the website at https://www.epa.gov/aqs.

C. Monitoring Network Considerations

Section 110(a)(2)(B)(i) of the CAA requires states to establish and operate air monitoring networks to compile data on ambient air quality for all criteria pollutants. The ambient air monitoring network in the Sacramento Metro area includes air monitoring stations that are managed and operated by CARB, PCAPCD, SMAQMD, and YSAQMD. Although portions of the EDCAQMD and FRAQMD are within the nonattainment area, neither district operates SLAMS ozone monitors in the Sacramento Metro area. CARB operates SLAMS ozone monitors within the portion of EDCAQMD that is within the nonattainment area, and there are no ozone monitors within the portion of the FRAQMD that lies within the Sacramento Metro nonattainment area.²¹ CARB and SMAQMD submit annual network plans to the EPA.²² These plans document the status of CARB and the Districts' air monitoring networks, as required under 40 CFR 58.10. The EPA reviews these annual network plans for compliance with specific requirements in 40 CFR part 58. With respect to ozone, we have found that the annual network plans submitted by CARB and SMAQMD meet the minimum monitoring requirements of 40 CFR part 58.²³

²¹ The FRAQMD maintains jurisdiction in both Sutter County and Yuba County. A portion of Sutter County is included in the Sacramento Metro nonattainment area, and none of Yuba County is included in the nonattainment area.

²² CARB's annual network plan includes the PCAPCD and YSAQMD ambient air monitoring networks. SMAQMD submits its own annual network plan.

²³ We have included copies of CARB and SMAQMD's annual network plans for 2022-2024 in the docket for this action, along with our reviews of these plans and our associated transmittal correspondence.

Finally, the EPA conducts regular Technical Systems Audits (TSAs) to review and inspect state and local ambient air monitoring programs to assess compliance with applicable regulations concerning the collection, analysis, validation, and reporting of ambient air quality data. CARB is a Primary Quality Assurance Organization (PQAO) in California that is responsible for overseeing the quality of data collected by local air monitoring organizations, which includes the Districts. For the purposes of this determination, we reviewed the findings from the EPA's most recent TSA of CARB's ambient air monitoring program.²⁴ The results of this TSA found that the CARB PQAO quality system was functioning well and produced ozone data suitable for use in regulatory decision-making. Therefore, the results of the TSA do not preclude the EPA from determining that the Sacramento Metro area has attained the 2008 ozone NAAQS.

²⁴ See letter from Matthew Lakin, Director, Air and Radiation Division, U.S. EPA Region IX, to Edie Chang, Deputy Executive Officer, CARB, dated March 14, 2024, and enclosure titled “Technical Systems Audit of the Ambient Air Monitoring Program: CARB, December 2021-August 2022.”

D. Data Considerations

In accordance with 40 CFR 58.15, SMAQMD and CARB certify annually that the previous year's ambient concentration and quality assurance data are completely submitted to AQS and that the ambient concentration data are accurate, taking into consideration the quality assurance findings.²⁵ SMAQMD certifies data from its monitoring network, and CARB certifies data for the CARB network as well as the PCAPCD and YSAQMD networks. There were 16 ozone monitoring sites located throughout the Sacramento Metro area in calendar years 2022 through 2024: three within El Dorado County, four within Placer County, six within Sacramento County, one within Solano County, and two within Yolo County.²⁶ Table 1 of this document summarizes the ozone monitoring data from the various monitoring sites in the Sacramento Metro area by showing the annual 4th highest daily maximum concentrations and design values over the 2022-2024 period. The data summarized in table 1 of this document are considered complete for the purposes of determining if the standard is met.²⁷

²⁵ We have included SMAQMD's and CARB's annual data certifications for 2022, 2023, and 2024 in the docket for this action.

²⁶ See page 9 of SMAQMD's 2024 Air Monitoring Network Plan (July 15, 2024) for a map illustrating the locations of the air monitoring sites in the SMAQMD.

²⁷ The criteria for data completeness are met at most of the ozone monitors over the 2022-2024 period but were not met for the ozone monitors at the Echo Summit, North Highlands—Blackfoot Way, and Sloughhouse monitoring sites.

Table 1—Sacramento Metro Area Fourth High 8-Hour Ozone Average Concentrations and Design Values (ppm) for 2022-2024
AQS site ID | Site name | 4th Highest daily maximum: 2022 | 4th Highest daily maximum: 2023 | 4th Highest daily maximum: 2024 | Design value (2022-2024)
EL DORADO COUNTY
06-017-0012 | Echo Summit | 0.064 | 0.065 | ᵃ NA | ᵇ Invalid
06-017-0020 | Cool | 0.074 | 0.072 | 0.072 | 0.072
06-017-2004 | Placerville—Canal Street | 0.066 | 0.067 | 0.067 | 0.066
PLACER COUNTY
06-061-0003 | Auburn—Atwood | 0.075 | 0.064 | 0.079 | 0.072
06-061-0004 | Colfax—City Hall | 0.070 | 0.067 | 0.067 | 0.068
06-061-0006 | Roseville—N Sunrise Ave | 0.070 | 0.077 | 0.077 | 0.074
06-061-2003 | Lincoln—2885 Moore Road | 0.066 | 0.060 | 0.063 | 0.063
SACRAMENTO COUNTY
06-067-0002 | North Highlands—Blackfoot Way | ᵃ NA | ᵃ NA | ᵃ NA | ᶜ Invalid
06-067-0006 | Sacramento Del Paso Manor | 0.070 | 0.077 | 0.080 | 0.075
06-067-0010 | Sacramento—T Street | 0.065 | 0.066 | 0.069 | 0.066
06-067-0011 | Elk Grove—Bruceville | 0.058 | 0.050 | 0.048 | 0.052
06-067-0012 | Folsom | 0.070 | 0.071 | 0.065 | 0.068
06-067-5003 | Sloughhouse | 0.074 | ᵃ NA | ᵃ NA | ᵈ Invalid
SOLANO COUNTY
06-095-3003 | Vacaville | 0.063 | 0.061 | 0.058 | 0.060
YOLO COUNTY
06-113-0004 | Davis—UCD Campus | 0.059 | 0.065 | 0.063 | 0.062
06-113-1003 | Woodland—Gibson Road | 0.066 | 0.062 | 0.064 | 0.064
ᵃ The required annual 75 percent completeness criterion was not met, therefore the annual 4th highest daily maximum values were not provided.
ᵇ The design value for the Echo Summit site is invalid due to missing data for the month of April in 2022 and 2024 as well as null coded data in AQS with site computer/data logger down from April through May of 2024.
ᶜ The design value for the North Highlands—Blackfoot Way site is invalid due to missing data from August 2022 through December 2024. SMAQMD lost the lease to the North Highlands—Blackfoot Way monitoring site and were forced to shut down the monitor on August 1, 2022. SMAQMD is looking to secure a new location for the site.
ᵈ The Sloughhouse design value is invalid due to null coded data in AQS with poor quality assurance results from July 2023 through April 2024.
Invalid design values and annual 4th highest daily maximum values can be found in the “SFNA O3 Design Value Report 2008-2024.pdf”.
Source: EPA, AQS Design Value (AMP480), Report Request ID: 2260106, February 6, 2025.

Consistent with the requirements contained in 40 CFR part 50, the EPA has reviewed the quality-assured and certified ozone ambient air monitoring data for completeness. The EPA reviewed the data as recorded in AQS for the applicable monitoring period, collected at the monitoring sites in the Sacramento Metro area, and has determined that the data are generally complete, with the exceptions of the Echo Summit, North Highlands—Blackfoot Way, and Sloughhouse monitoring sites. These exceptions are described below:

• The Echo Summit monitoring site, which typically operates seasonally from April through October, was not able to operate during the month of April in the years 2019 to 2024 due to weather conditions that made the access roads to the sites impassible.²⁸ For this reason, Echo Summit was not able to meet the 3-year completeness criterion of 90 percent for the 2024 design value period. While Echo Summit did not have a valid design value for the previous five years, for the five most recent valid design value years (2010-2014) Echo Summit was not among the top 50 percent of design values for the Sacramento Metro area, was 0.016-0.031 ppm lower than the highest design value site, and below the 2008 ozone NAAQS.²⁹

²⁸ See 2024 CARB Annual Network Plan, Appendix B.

²⁹ CARB submitted a site closure request for the Echo Summit ozone monitor to EPA on February 10, 2025. CARB also requested a new ozone monitor at the South Lake Tahoe—Sandy Way monitoring station with a proposed start date of April 1, 2025. See letter from Michael Miguel, CARB, to Dena Vallano, EPA Region IX, dated February 10, 2025. The EPA plans to act on these requests in the near future.

• The North Highlands—Blackfoot Way monitoring site was shut down on August 1, 2022, due to sudden loss of the lease providing access to the monitor following the property's sale to another owner. SMAQMD notified the EPA of this abrupt closure via letter on July 28, 2022, and documented it in its 2023 annual network plan.³⁰ The North Highlands—Blackfoot Way monitoring site had design values that were 0.006-0.012 ppm lower than the highest design value site for the five previous valid design value years of its operation (2016-2020), did not have the highest fourth-highest daily maximum 8-hour ozone concentration in the Sacramento Metro area in the last five years of operations (2018-2022), and has had design values below the 2008 ozone NAAQS since 2019.

³⁰ See 2023 SMAQMD Annual Network Plan, Appendix E.

• The Sloughhouse monitoring site failed an annual performance evaluation due to an incorrectly installed ozone calibrator, which resulted in data invalidation from July 2023 through April 2024.³¹ As a result, the site did not meet the 3-year completeness criterion of 90 percent and the 2023 and 2024 calendar years did not meet the annual completeness criterion of 75 percent. While Sloughhouse did not have valid design values for the previous two design values, the Sloughhouse monitoring site was 0.008-0.014 ppm lower than the highest design value site and not the fourth-highest daily maximum 8-hour ozone concentration in the Sacramento Metro area for the five previous valid design value years (2018-2022). Sloughhouse also had valid design values below the 2008 ozone NAAQS for 2018-2022.

³¹ See Data Certification Letter from Mark Loutzenhiser, SMAQMD, to Martha Guzman, EPA, dated January 15, 2025.

Historically, the design values for these sites have consistently measured 0.005-0.015 ppm lower than the highest design value site for the Sacramento Metro area.³² Therefore, we find that the invalid design values at the Echo Summit, North Highland—Blackfoot Way, and Sloughhouse monitoring sites do not preclude an attainment determination for the Sacramento Metro area. The remaining ozone monitoring sites meet the data completeness requirements of 40 CFR part 50, Appendix P.³³ Taking into account the extent and reliability of the applicable ozone monitoring network, and the data collected therefrom and summarized in Table 1 of this document, we are proposing to determine that the Sacramento Metro area attained the 2008 ozone NAAQS (as defined in 40 CFR part 50, Appendix P) by the applicable attainment date (i.e., December 31, 2024).

³² See “SFNA O3 Design Value Report 2008-2024.pdf,” which is included in the docket.

³³ See id.

E. Effects of This Proposed Determination

A determination of attainment by the attainment date does not have the effect of redesignating an area to attainment. Redesignation of an area to attainment requires that an area has met all applicable requirements of CAA section 110 and part D, and that the area has submitted, and the EPA has approved, a redesignation request and maintenance plan.³⁴ Therefore, if we finalize this determination as proposed, the Sacramento Metro nonattainment will remain designated nonattainment for the 2008 ozone NAAQS, and will retain its current classification of Severe-15 for this standard. A determination of attainment by the attainment date applies throughout the attainment area, including to lands under jurisdiction of CARB and the Districts, and the lands under jurisdiction of the Tribes mentioned in this document.

³⁴ Memorandum dated September 4, 1992 from John Calcagni, Director, EPA Air Quality Management Division, to Regional Air Directors, titled “Procedures for Processing Requests to Redesignate Areas to Attainment.”

Based on our proposed finding of attainment by the applicable attainment date, we are also proposing to find that the CAA requirement for a SIP to include attainment contingency measures and RFP contingency measures will no longer apply to the Sacramento Metro area for purposes of the 2008 ozone NAAQS. Under CAA section 172(c)(9), attainment contingency measures must be implemented only if the area fails to attain by the attainment date. Further, under CAA section 182(g), ozone nonattainment areas classified “Serious” or higher are required to meet RFP emissions reduction “milestones” and to demonstrate compliance with those milestones only until the attainment date has been met. Therefore, if we finalize our proposed determination that the Sacramento Metro area has attained the 2008 ozone NAAQS by the attainment date, then attainment contingency measures for the 2008 ozone NAAQS would never be required to be implemented, regardless of whether the area continued to attain the NAAQS, and RFP contingency measures could not be triggered and would therefore no longer be necessary.³⁵ This proposed finding will not prevent the EPA from exercising its authority under the CAA to address any subsequent violations of the NAAQS.

³⁵ See, e.g., 87 FR 42126, 42130 (July 14, 2022). See also 57 FR 13498, 13564 (April 16, 1992) and Memorandum dated May 10, 1995, from John D. Seitz, Director, Office of Air Quality Planning and Standards, to EPA Regional Air Directors, Regions I-X, Subject: “Reasonable Further Progress, Attainment Demonstration, and Related Requirements for Ozone Nonattainment Areas Meeting the Ozone National Ambient Air Quality Standard” (“Seitz Memo”) p. 4.

As noted in Section I.B of this notice, we are concurrently making an interim final determination to stay the offset sanction and to defer the highway funding sanction associated with the EPA's 2023 disapproval of the Sacramento Metro area's contingency measures submittal. The determination to stay and defer sanctions is based upon the proposed determination of attainment by the attainment date detailed in this document. A final determination of attainment by the attainment date would permanently stop the sanctions and FIP clocks triggered by the EPA's previous disapproval of the contingency measures requirement for the Sacramento Metro area, and would permanently lift the offset sanction that has been in place.³⁶

³⁶ See Seitz Memo p. 6.

III. Action Summary

We are proposing to determine that the Sacramento Metro area attained the 2008 ozone NAAQS by its December 31, 2024 attainment date, based on quality-assured and certified ambient air quality monitoring data from 2022 through 2024. In this same issue of the Federal Register, we are also issuing an interim final determination as described in Section II.E, effective upon publication, to stay the offset sanction and defer the highway funding sanction.

The EPA is soliciting public comments on the proposed action, our rationale for the proposed action, and any other pertinent matters related to the issues discussed in this document. We will accept comments from the public on this proposal for the next 30 days and will consider comments before taking final action.

IV. Statutory and Executive Order Reviews

A. Executive Order 12866: Regulatory Planning and Review

This action is not a “significant regulatory action” under the terms of Executive Order 12866 (58 FR 51735, October 4, 1993).

B. Paperwork Reduction Act (PRA)

This rule does not impose an information collection burden under the provisions of the PRA of 1995 (44 U.S.C. 3501 et seq.). This action does not contain any information collection activities and serves only to propose a determination that the Sacramento Metro nonattainment area attained the 2008 ozone NAAQS by the December 31, 2024 attainment date.

C. Regulatory Flexibility Act (RFA)

I certify that this action will not have a significant economic impact on a substantial number of small entities under the RFA (5 U.S.C. 601 et seq.). This action will not impose any requirements on small entities. The proposed determination of attainment by the attainment date for the 2015 ozone standards, does not in and of itself create any new requirements beyond what is mandated by the CAA.

D. Unfunded Mandates Reform Act (UMRA)

This action does not contain any unfunded mandate as described in UMRA, 2 U.S.C. 1531-1538 and does not significantly or uniquely affect small governments. The action imposes no enforceable duty on any state, local or Tribal governments or the private sector.

E. Executive Order 13132: Federalism

This action does not have federalism implications. It will not have substantial direct effects on the states, on the relationship between the national government and the states, or on the distribution of power and responsibilities among the various levels of government. The division of responsibility between the federal government and the states for purposes of implementing the NAAQS is established under the CAA.

F. Executive Order 13175: Coordination With Indian Tribal Governments

Executive Order 13175 (65 FR 67249, November 9, 2000), requires EPA to develop an accountable process to ensure “meaningful and timely input by Tribal officials in the development of regulatory policies that have Tribal implications.” This action does not have Tribal implications, as specified in Executive Order 13175, because this determination will not impose substantial direct costs on Tribal governments or preempt Tribal law. The EPA has identified Tribal areas within the Sacramento Metro nonattainment area. We note that this determination, if finalized, would apply throughout the nonattainment area, including on Tribal lands within the nonattainment areas. However, as noted in Section II.E of this notice, the Sacramento Metro nonattainment area, including the Tribal lands within the nonattainment area, would remain designated nonattainment and would retain its existing classification.

The EPA plans to notify the Tribes located within the boundaries of the Sacramento Metro nonattainment areas of this proposed determination. Because a final determination of attainment would not change the Tribe's existing nonattainment designation or classification, the EPA does not plan offer government-to-government consultation on this proposed determination, however, it is our practice to initiate government-to-government consultation at the request of any Tribe.

G. Executive Order 13045: Protection of Children From Environmental Health and Safety Risks

EPA interprets Executive Order 13045 (62 FR 19885, April 23, 1997) as applying to those regulatory actions that concern environmental health or safety risks that EPA has reason to believe may disproportionately affect children, per the definition of “covered regulatory action” in section 2-202 of the Executive Order. This action is not subject to Executive Order 13045 because it does not establish an environmental standard intended to mitigate health or safety risks.

H. Executive Order 13211: Actions That Significantly Affect Energy Supply, Distribution, or Use

This action is not subject to Executive Order 13211 (66 FR 28355, May 22, 2001) because it is not a significant regulatory action under Executive Order 12866.

I. National Technology Transfer and Advancement Act (NTTAA)

This rulemaking does not involve technical standards. Therefore, EPA is not considering the use of any voluntary consensus standards.

List of Subjects in 40 CFR Part 52

Environmental protection, Air pollution control, Incorporation by reference, Intergovernmental relations, Nitrogen oxides, Ozone, Reporting and recordkeeping requirements, Volatile organic compounds.

Dated: March 11, 2025.
Cheree D. Peterson,
Acting Regional Administrator, Region IX.

[FR Doc. 2025-04791 Filed 3-20-25; 8:45 am]

BILLING CODE 6560-50-P